DEPARTMENT OF LABOR

Employment and Training Administration

[TA-W-54,061, TA-W-54,061A, TA-W-54,061B, TA-W-54,061C, TA-W-54,061D, TA-W-54,061E, TA-W-54,061F, TA-W-54,061G, TA-W-54,061H]

Eastern Pulp and Paper Co., Inc. Lincoln Pulp and Paper Plant, Lincoln, ME, Eastern Pulp and Paper Co., Inc. Corporate Office, Amherst, MA, Including Employees of Eastern Pulp and Paper Co., Inc., Lincoln Pulp and Paper Plant Operating at Various Locations in the Following States: Michigan, Connecticut, Georgia, New Jersey, Massachuetts, Ohio, and Wisconsin; Amended Certification Regarding Eligibility to Apply for Worker Adjustment Assistance and Alternative Trade Adjustment Assistance

In accordance with section 223 of the Trade Act of 1974 (19 U.S.C. 2273) the Department of Labor issued a Certification of Eligibility to Apply for Worker Adjustment Assistance on January 30, 2004, applicable to workers of Eastern Pulp and Paper Co., Inc., Lincoln Pulp and Paper Plant, Lincoln, Maine. The notice was published in the Federal Register on February 6, 2004 (69 FR 5868).

At the request of the State agency, the Department reviewed the certification for workers of the subject firm. New information shows that worker separations occurred at the Eastern Pulp and Paper Co., Inc., Corporate Office, located in Amherst, Massachusetts. The subject firm also separated workers at various locations in the states of Michigan, Connecticut, Georgia, New Jersey, Massachusetts, Ohio and Wisconsin, reporting to the Lincoln Pulp and Paper Plant. These employees provide administrative, sales and marketing support services for the production of paper, tissue paper and wood pulp produced at the Lincoln, Maine location of the subject firm.

Based on these findings, the Department is amending this certification to include employees of the Amherst, Massachusetts location and employees of the Lincoln, Maine location of Eastern Pulp and Paper Co., Inc. operating at various locations in the following states: Michigan, Connecticut, Georgia, New Jersey, Massachusetts, Ohio and Wisconsin.

The intent of the Department's certification is to include all workers of Eastern Pulp and Paper Co., Inc., Lincoln Pulp and Paper Plant who were adversely affected by increased imports. The amended notice applicable to TA-W-54,061 is hereby issued as follows:

All workers of Eastern Pulp and Paper Co., Inc., Lincoln Pulp and Paper Plant, Lincoln, Maine (TA-W-54,061), Eastern Pulp and Paper Co., Inc., Eastern Pulp and Paper Co., Inc., Corporate Office, Amherst, Massachusetts (TA-W-54,061A), and employees of Eastern Pulp and Paper Co., Inc., Lincoln Pulp and Paper Plant, Lincoln, Maine operating at various locations in the following states: Michigan (TA-W-54,0616B), Connecticut (TA-W-54,061C), Georgia (TA-W-54,061D), New Jersey (TA-W-54,061E), Massachusetts (TA-W-54,061F), Ohio (TA-W-54,061G) and Wisconsin (TA-W-54,061H), who became totally or partially separated from employment on or after January 16, 2003, through January 30, 2006, are eligible to apply for adjustment assistance under section 223 of the Trade Act of 1974, and are also eligible to apply for alternative trade adjustment assistance under section 246 of the Trade Act of 1974.

Signed in Washington, DC, this 20th day of April, 2004.
Linda G. Poole,
Certifying Officer, Division of Trade Adjustment Assistance.

[FR Doc. E4-960 Filed 4-29-04; 8:45 am]

BILLING CODE 4510-13-P